DEPARTMENT OF TRANSPORTATION

Federal Aviation Administration

[Summary Notice No. PE-2003-10]

Petitions for Exemption; Dispositions of Petitions Issued

AGENCY: Federal Aviation Administration (FAA), DOT.

ACTION: Notice of dispositions of prior petitions for exemption.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition.

FOR FURTHER INFORMATION CONTACT: Sandy Buchanan-Sumter (202) 267-7271, Vanessa Wilkins (202) 267-8029, or Denise Emrick (202) 267-5174, Office of Rulemaking (ARM-1), Federal Aviation Administration, 800 Independence Avenue, SW., Washington, DC 20591.

This notice is published pursuant to 14 CFR 11.85 and 11.91.

Issued in Washington, DC, on March 7, 2003.
Richard D. McCurdy,
Acting Assistant Chief Counsel for Regulations.

Dispositions of Petitions

Docket No.: FAA-2002-12696.

Petitioner: Classic Helicopter Corporation.

Section of 14 CFR Affected: 14 CFR 135.143(c)(2).

Description of Relief Sought/Disposition: To permit Classic to operate certain aircraft under part 135 without a TSO-C112 (Mode S) transponder installed in the aircraft.

Grant, August 26, 2002, Exemption No. 7870

Docket No.: FAA-2000-8474.

Petitioner: Howell Enterprises, Inc.

Section of 14 CFR Affected: 14 CFR 135.143(c)(2).

Description of Relief Sought/Disposition: To permit Howell Enterprises, Inc. to operate certain aircraft under part 135 without a TSO-C112 (Mode S) transponder installed.

Grant, August 28, 2002, Exemption No. 7427A

Docket No.: FAA-2000-8143.

Petitioner: Peninsula Airways, Inc., d.b.a. PenAir.

Section of 14 CFR Affected: 14 CFR 135.143(c)(2).

Description of Relief Sought/Disposition: To permit PenAir to operate certain aircraft under part 135 without a TSO-C112 (Mode S) transponder installed.

Grant, August 28, 2002, Exemption No. 7402A

Docket No.: FAA-2000-7980.

Petitioner: Air Transport Association of America.

Section of 14 CFR Affected: 14 CFR 121.311(b).

Description of Relief Sought/Disposition: To permit ATA-member airlines and other similarly situated part 121 operators to permit qualified flight attendants not required by § 121.391(c) to perform duties related to the safety of the airplane and its occupants during aircraft movement on the surface.

Grant, August 28, 2002, Exemption No. 5533E

Docket No.: FAA-2000-8340.

Petitioner: Rocky Mountain Holdings, LLC.

Section of 14 CFR Affected: 14 CFR 135.143(c)(2).

Description of Relief Sought/Disposition: To permit Rocky Mountain Holdings to operate certain aircraft under part 135 without a TSO-C112 (Mode S) transponder installed.

Grant, August 28, 2002, Exemption No. 5774F

Docket No.: FAA-2000-8590.

Petitioner: Delta Air Lines, Inc.

Section of 14 CFR Affected: 14 CFR 121.339(a)(3).

Description of Relief Sought/Disposition: To permit Delta to replace its approved pyrotechnic signaling devices aboard its aircraft with hand-held, high-intensity, stroboscopic light sources.

Denial, August 28, 2002, Exemption No. 7873

Docket No.: FAA-2002-12797.

Petitioner: Business Jet Services, Ltd.

Section of 14 CFR Affected: 14 CFR 135.152.

Description of Relief Sought/Disposition: To permit Business Jet Services to operate two British Aerospace BAC1-11 400 series airplanes under part 135 without recording the parameters listed in § 135.152(b)(1) within the ranges, accuracies, resolutions, and sampling intervals specified in appendix D to part 135.

Denial, August 28, 2002, Exemption No. 7872

Docket No.: FAA-2001-8744.

Petitioner: Evergreen Air Venture Museum.

Section of 14 CFR Affected: 14 CFR 91.315, 91.319(a), 119.5(g), and 119.21(a).

Description of Relief Sought/Disposition: To permit Evergreen to operate various aircraft, which hold limited, experimental, and standard airworthiness certificates for the purpose of carrying passengers on local flights in return for donations.

Partial Grant, August 28, 2002, Exemption No. 6632D

Docket No.: FAA-2002-13012.

Petitioner: Frontier Flying Service, Inc.

Section of 14 CFR Affected: 14 CFR 135.143(c)(2).

Description of Relief Sought/Disposition: To permit Frontier Flying Service to operate certain aircraft under part 135 without a TSO-C112 (Mode S) transponder installed in the aircraft.

Grant, August 28, 2002, Exemption No. 7874

Docket No.: FAA-2002-12892.

Petitioner: Columbiana County Pilots Association.

Section of 14 CFR Affected: 14 CFR 135.251, 135.255, and 135.353, and appendices I and J to part 121.

Description of Relief Sought/Disposition: To permit Columbiana to conduct local sightseeing flights during October 2002, for compensation or hire, without complying with certain anti-drug and alcohol misuse prevention requirements of part 135.

Grant, August 28, 2002, Exemption No. 7875

Docket No.: FAA-2002-13151.

Petitioner: Elliott Aviation.

Section of 14 CFR Affected: 14 CFR 135.143(c)(2).

Description of Relief Sought/Disposition: To permit Elliott to operate certain aircraft under part 135 without a TSO-C112 (Mode S) transponder installed on those aircraft.

Grant, August 30, 2002, Exemption No. 7347A

Docket No.: FAA-2002-13134.

Petitioner: Ram Air Freight, Inc.

Section of 14 CFR Affected: 14 CFR 135.143(c).

Description of Relief Sought/Disposition: To permit Ram Air to operate certain aircraft under part 135 without a TSO-C112 (Mode S) transponder installed in each aircraft.

Grant, September 3, 2002, Exemption No. 7876

Docket No.: FAA-2002-12993.

Petitioner: Stallion 51 Corporation.

Section of 14 CFR Affected: 14 CFR 91.315.

Description of Relief Sought/Disposition: To permit Stallion 51 to provide initial and recurrent training, and training under contract with the U.S. military in its two North American TF-51 airplanes certificated as limited category civil aircraft, subject to certain conditions and limitations.

Grant, September 4, 2002, Exemption No. 6811B

Docket No.: FAA-2000-8533.

Petitioner: Israel Aircraft Industries.

Section of 14 CFR Affected: 14 CFR 61.77(a).

Description of Relief Sought/Disposition: To permit Israel Aircraft Industries to obtain special purpose pilot authorizations for its pilot employees for the purpose of performing ferry/delivery flights for its U.S. customers.

Grant, September 9, 2002, Exemption No. 7406A

Docket No.: FAA-2002-12831.

Petitioner: Air Transport Association.

Section of 14 CFR Affected: 14 CFR 61.157(a); item I (b) of appendix A to part 61; 121.424(a), (b), and (d)(1); item I(a) of appendix E to part 121; and item I(b) of appendix F to part 121.

Description of Relief Sought/Disposition: To permit Air Transport Association member airlines and other qualifying part 121 certificate holders to conduct training and checking of pilots on airplanes that require two flight crewmembers for the required preflight inspection, both interior and exterior, using approved advanced pictorial means.

Grant, September 9, 2002, Exemption No. 4416I

Docket No.: FAA-2000-8100.

Petitioner: Northwest Airlines, Inc.

Section of 14 CFR Affected: 14 CFR 121.401(c), 121.433(c)(1)(iii), 121.440(a), and 121.441(a)(1) and (b)(1); appendix F to part 121.

Description of Relief Sought/Disposition: To permit Northwest Airlines (NWA) to combine recurrent flight and ground proficiency checks for NWA's flight crewmembers in a single annual training and proficiency evaluation program and meet the line check requirements of § 121.440(a) and SFAR No. 58 through an FAA-approved alternative line check program.

Grant, September 11, 2002, Exemption No. 5815E

Docket No.: FAA-2002-13346.

Petitioner: Westjet Air Center, Inc.

Section of 14 CFR Affected: 14 CFR 135.143(c)(2).

Description of Relief Sought/Disposition: To permit Westjet to operate certain aircraft under part 135 without a TSO-C112 (Mode S) transponder installed in the aircraft.

Grant, September 13, 2002, Exemption No. 7881

Docket No.: FAA-2002-13178.

Petitioner: Cedar Valley Air Charter, LLC.

Section of 14 CFR Affected: 14 CFR 135.143(c)(2).

Description of Relief Sought/Disposition: To permit Cedar Valley Air Charter to operate certain aircraft under part 135 without a TSO-C112 (Mode S) transponder installed in the aircraft.

Grant, September 13, 2002, Exemption No. 7880

Docket No.: FAA-2002-13232.

Petitioner: California Shock/Trauma Air Rescue.

Section of 14 CFR Affected: 14 CFR 135.143(c)(2).

Description of Relief Sought/Disposition: To permit California Shock/Trauma Air Rescue to operate certain aircraft under part 135 without a TSO-C112 (Mode S) transponder installed in the aircraft.

Grant, September 13, 2002, Exemption No. 7883

Docket No.: FAA-2002-13165.

Petitioner: TransNorthern LLC.

Section of 14 CFR Affected: 14 CFR 135.143(c)(2).

Description of Relief Sought/Disposition: To permit TransNorthern to operate certain aircraft under part 135 without a TSO-C112 (Mode S) transponder installed in the aircraft.

Grant, September 13, 2002, Exemption No. 7882

Docket No.: FAA-2002-13180.

Petitioner: Ryan International Airlines, Inc.

Section of 14 CFR Affected: 14 CFR 91.203(a) and (b).

Description of Relief Sought/Disposition: To permit Ryan to operate temporarily its U.S.-registered aircraft following the incidental loss or mutilation of that aircraft's airworthiness certificate or registration certificate, or both.

Grant, September 17, 2002, Exemption No. 6571C

Docket No.: FAA-2001-8634.

Petitioner: Comair, Inc. d.b.a. Delta Connection.

Section of 14 CFR Affected: 14 CFR 93.217.

Description of Relief Sought/Disposition: To permit Delta Connection carriers to conduct domestic operations using its eight international slots at LaGuardia Airport.

Grant, September 19, 2002, Exemption No. 7434A

Docket No.: FAA-2002-13275.

Petitioner: Frankfort Flight Service, Inc.

Section of 14 CFR Affected: 14 CFR 135.143(c)(2).

Description of Relief Sought/Disposition: To permit Frankfort to operate certain aircraft under part 135 without a TSO-C112 (Mode S) transponder installed in the aircraft.

Grant, September 20, 2002, Exemption No. 7888

Docket No.: FAA-2002-13210.

Petitioner: American Trans Air Execujet, Inc.

Section of 14 CFR Affected: 14 CFR 135.143(c)(2).

Description of Relief Sought/Disposition: To permit Execujet to operate certain aircraft under part 135 without a TSO-C112 (Mode S) transponder installed in the aircraft.

Grant, September 20, 2002, Exemption No. 7889

Docket No.: FAA-2002-13222.

Petitioner: WingsAir, Inc.

Section of 14 CFR Affected: 14 CFR 135.143(c)(2).

Description of Relief Sought/Disposition: To permit WingsAir to operate certain aircraft under part 135 without a TSO-C112 (Mode S) transponder installed in the aircraft.

Grant, September 20, 2002, Exemption No. 7890

Docket No.: FAA-2002-12253.

Petitioner: Continental Airlines, Inc.

Section of 14 CFR Affected: 14 CFR 121.440(a) and (b)(3), and Special Federal Aviation Regulation (SFAR) 58, paragraph 6(b)(3)(ii)(A).

Description of Relief Sought/Disposition: To permit Continental to meet line check requirements using an alternative line check program.

Grant, September 23, 2002, Exemption No. 7861A

Docket No.: FAA-2002-13066.

Petitioner: Department of the Army.

Section of 14 CFR Affected: 14 CFR 91.209(a)(1) and (2).

Description of Relief Sought/Disposition: To permit the Army to conduct certain military training operations at night without lighted aircraft position lights.

Grant, September 25, 2002, Exemption No. 3946H

Docket No.: FAA-2002-13273.

Petitioner: Stuart Air Show.

Section of 14 CFR Affected: 14 CFR 135.251, 135.255, and 135.353, and appendices I and J to part 121.

Description of Relief Sought/Disposition: To permit Visiting Nurse Association to conduct local sightseeing flights during November 2002, for compensation or hire, without complying with certain anti-drug and alcohol misuse prevention requirements of part 135.

Grant, September 26, 2002, Exemption No. 7894

Docket No.: FAA-2001-10831.

Petitioner: Pomona Valley Pilots Association.

Section of 14 CFR Affected: 14 CFR 135.251, 135.255, and 135.353, and appendices I and J to part 121.

Description of Relief Sought/Disposition: To permit Pomona Valley Pilots Association to conduct local sightseeing flights during January 2003, for compensation or hire, without complying with certain anti-drug and alcohol misuse prevention requirements of part 135.

Grant, September 26, 2002, Exemption No. 7895

Docket No.: FAA-2001-10165.

Petitioner: North Jersey Chapter of the Ninety-Nines, Inc.

Section of 14 CFR Affected: 14 CFR 135.251, 135.255, and 135.353, and appendices I and J to part 121.

Description of Relief Sought/Disposition: To permit Ninety-Nines to conduct local sightseeing flights during October 2002, for compensation or hire, without complying with certain anti-drug and alcohol misuse prevention requirements of part 135.

Grant, September 26, 2002, Exemption No. 7896

Docket No.: FAA-2000-8148.

Petitioner: Epps Air Service, Inc.

Section of 14 CFR Affected: 14 CFR 135.143(c)(2).

Description of Relief Sought/Disposition: To permit Epps to operate certain aircraft under part 135 without a TSC-C112 (Mode S) transponder installed on those aircraft.

Grant, September 26, 2002, Exemption No. 6037D

Docket No.: FAA-2002-13352.

Petitioner: Vermont Pilots Association.

Section of 14 CFR Affected: 14 CFR 135.251, 135.255, and 135.353, and appendices I and J to part 121.

Description of Relief Sought/Disposition: To permit Vermont Pilots Association to conduct local sightseeing flights during September 2002, for compensation or hire, without complying with certain anti-drug and alcohol misuse prevention requirements of part 135.

Grant, September 27, 2002, Exemption No. 7892

Docket No.: FAA-2002-13316.

Petitioner: Monterey Bay Chapter of the Ninety-Nines, Inc.

Section of 14 CFR Affected: 14 CFR 135.251, 135.255, and 135.353, and appendices I and J to part 121.

Description of Relief Sought/Disposition: To permit Ninety-Nines to conduct local sightseeing flights during October 2002, for compensation or hire, without complying with certain anti-drug and alcohol misuse prevention requirements of part 135.

Grant, September 30, 2002, Exemption No. 7898

Docket No.: FAA-2002-13009.

Petitioner: National Air Transportation Association.

Section of 14 CFR Affected: 14 CFR 135.251, 135.255, and 135.353, and from appendices I and J to part 121.

Description of Relief Sought/Disposition: To permit National Air Transportation Association members to conduct up to 4 local sightseeing flights per year for compensation or hire, at charity or community events, without complying with certain anti-drug and alcohol misuse prevention requirements of part 135.

Grant September 30, 2002, Exemption No. 7899

Docket No.: FAA-2001-9128.

Petitioner: The Federal Aviation Administration Aviation System Standards (AVN) and the U.S. Air Force Flight Inspection Center (FIC).

Section of 14 CFR Affected: 14 CFR 91.119(b) and (c), 91.159, 91.175(a) and (b), and 91.179.

Description of Relief Sought/Disposition: To permit the FAA AVN and the USAF FIC to deviate from certain flight rules required by subpart B of part 91 while conducting flight inspections of air navigation facilities and instrument approach procedures.

Grant, October 8, 2002, Exemption No. 5118E

Docket No.: FAA-2002-13326.

Petitioner: Western North Carolina Pilots Association.

Section of 14 CFR Affected: 14 CFR 135.251, 135.255, and 135.353, and appendices I and J to part 121.

Description of Relief Sought/Disposition: To permit Western North Carolina Pilots Association to conduct local sightseeing flights during October 2002, for compensation or hire, without complying with certain anti-drug and alcohol misuse prevention requirements of part 135.

Grant, October 10, 2002, Exemption No. 7903.

Docket No.: FAA-2002-13443.

Petitioner: Moody Aviation.

Section of 14 CFR Affected: 14 CFR 135.251, 135.255, and 135.353, and appendices I and J to part 121.

Description of Relief Sought/Disposition: To permit Moody to conduct local sightseeing flights during October 2002, for compensation or hire, without complying with certain anti-drug and alcohol misuse prevention requirements of part 135.

Grant, October 16, 2002, Exemption No. 7907

Docket No.: FAA-2002-13153.

Petitioner: Ottumwa Flying Service, Inc.

Section of 14 CFR Affected: 14 CFR 135.143(c)(2).

Description of Relief Sought/Disposition: To permit Ottumwa to operate certain aircraft under part 135 without a TSO-C112 (Mode S) transponder installed in the aircraft.

Grant, October 10, 2002, Exemption No. 7905

Docket No.: FAA-2002-13288.

Petitioner: Ozark Air Charter Company, Inc.

Section of 14 CFR Affected: 14 CFR 135.143(c)(2).

Description of Relief Sought/Disposition: To permit Ozark to operate certain aircraft under part 135 without a TSO-C112 (Mode S) transponder installed in each aircraft.

Grant, October 10, 2002, Exemption No. 7906

Docket No.: FAA-2002-13437.

Petitioner: Jet Share US, LLC.

Section of 14 CFR Affected: 14 CFR 135.143(c)(2).

Description of Relief Sought/Disposition: To permit Jet Share to operate certain aircraft under part 135 without a TSO-C112 (Mode S) transponder installed in the aircraft.

Grant, October 10, 2002, Exemption No. 7904

Docket No.: FAA-2000-8429.

Petitioner: North Star Air Cargo, Inc.

Section of 14 CFR Affected: 14 CFR 135.143(c)(2).

Description of Relief Sought/Disposition: To permit North Star to operate certain aircraft under part 135 without a TSO-C112 (Mode S) transponder installed on those aircraft.

Grant, October 10, 2002, Exemption No. 6878B

Docket No.: FAA-2000-7988.

Petitioner: RGT Air Freight.

Section of 14 CFR Affected: 14 CFR 135.143(c)(2).

Description of Relief Sought/Disposition: To permit RGT to operate certain aircraft under part 135 without a TSO-C112 (Mode S) transponder installed on each aircraft.

Grant, October 15, 2002, Exemption No. 7386A

Docket No.: FAA-2001-8685.

Petitioner: Advantage Air Charter LLC.

Section of 14 CFR Affected: 14 CFR 135.143(c)(2).

Description of Relief Sought/Disposition: To permit Advantage Air Charter to operate certain aircraft under part 135 without a TSO-C112 (Mode S) transponder installed on each aircraft.

Grant, October 15, 2002, Exemption No. 7441A

Docket No.: FAA-2002-13317.

Petitioner: James R. Weiss.

Section of 14 CFR Affected: 14 CFR 121.383(c).

Description of Relief Sought/Disposition: To permit James R. Weiss to act as a pilot in operations conducted under part 121 after reaching his 60th birthday.

Denial, October 21, 2002, Exemption No. 7910

Docket No.: FAA-2002-13297.

Petitioner: United Airlines, Inc.

Section of 14 CFR Affected: 14 CFR 121.665 and 121.697(a) and (b).

Description of Relief Sought/Disposition: To permit United Airlines to continue to use computerized load manifests that bear the printed name and position of the person responsible for loading the aircraft, instead of the person's signature.

Grant, October 23, 2002, Exemption No. 2466N

Docket No.: FAA-2001-9032.

Petitioner: Ameriflight, Inc.

Section of 14 CFR Affected: 14 CFR 61.3(a) and (c), 91.203 (a) and (b), 121.153(a)(1) and 121.383(a)(2).

Description of Relief Sought/Disposition: To permit Ameriflight to temporarily operate its aircraft in accordance with parts 121 and 135 without those aircraft's airworthiness and registration certificates onboard; and without the pilots having their pilot and medical certificates in their personal possession, while obtaining replacements, subject to certain conditions and limitations.

Grant, October 23, 2002, Exemption No. 7143B

Docket No.: FAA-2001-9618.

Petitioner: United States Air Force.

Section of 14 CFR Affected: 14 CFR 91.209(a) and (b).

Description of Relief Sought/Disposition: To permit United States Air Force to conduct helicopter night-vision flight training operations using two or more aircraft without lighted aircraft position lights at or below 500 feet above ground level.

Grant, October 24, 2002, Exemption No. 5891C

Docket No.: FAA-2002-13588.

Petitioner: United States Hang Gliding Association, Inc.

Section of 14 CFR Affected: 14 CFR 103.1(a) and (b).

Description of Relief Sought/Disposition: To permit United States Hang Gliding Association to operate unpowered ultralight vehicles weighing less than 155 pounds, with another occupant, for the purpose of sport, training, or recreation.

Grant, October 25, 2002, Exemption No. 4721H

Docket No.: FAA-2002-13614.

Petitioner: American Aerospace Corporation.

Section of 14 CFR Affected: 14 CFR 135.143(c)(2).

Description of Relief Sought/Disposition: To permit American Aerospace Corporation to operate certain aircraft under part 135 without a TSO-C112 (Mode S) transponder installed in the aircraft.

Grant, October 28, 2002, Exemption No. 7913

Docket No.: FAA-2002-13621.

Petitioner: Alpine Aviation.

Section of 14 CFR Affected: 14 CFR 135.143(c)(2).

Description of Relief Sought/Disposition: To permit Alpine to operate certain aircraft under part 135 without a TSO-C112 (Mode S) transponder installed in the aircraft.

Grant, October 28, 2002, Exemption No. 7912

Docket No.: 27606.

Petitioner: Robert Essell.

Section of 14 CFR Affected: 14 CFR 61.3(d)(2) and 91.319.

Description of Relief Sought/Disposition: To permit Robert Essell to use experimental aircraft for introductory flights, instructional flights, and flight demonstrations.

Denial, October 25, 2002, Exemption No. 7911

Docket No.: FAA-2000-8153.

Petitioner: American Airlines, Inc.

Section of 14 CFR Affected: 14 CFR 121.317(a).

Description of Relief Sought/Disposition: To permit American to operate its Boeing 737 and 777 aircraft with “No Smoking” signs that are always illuminated.

Grant, October 30, 2002, Exemption No. 6853B

Docket No.: FAA-2000-8526.

Petitioner: Aviation Specialists, Inc.

Section of 14 CFR Affected: 14 CFR 135.143(c)(2).

Description of Relief Sought/Disposition: To permit Aviation Specialists Inc to operate certain aircraft under part 135 without a TSO-C112 (Mode S) transponder installed in each aircraft.

Grant, November 1, 2002, Exemption No. 7443A

Docket No.: FAA-2002-13076.

Petitioner: Spokane Airways, Inc.

Section of 14 CFR Affected: 14 CFR 135.143(c)(2).

Description of Relief Sought/Disposition: To permit Spokane Airways to operate certain aircraft under part 135 without a TSO-C112 (Mode S) transponder installed in each aircraft.

Grant, November 1, 2002, Exemption No. 7914

Docket No.: FAA-2002-13132.

Petitioner: Executive Airlines, Inc. and American Eagle Airlines, Inc.

Section of 14 CFR Affected: Section V, paragraph A.1, and section IX, paragraph A.2, of appendix I to part 121.

Description of Relief Sought/Disposition: To permit employees performing safety-sensitive functions for American Eagle to perform identical functions for Executive without being subject to additional preemployment drug testing.

Grant, November 7, 2002, Exemption No. 7916

Docket No.: FAA-2000-8428.

Petitioner: Delta Air Lines, Inc.

Section of 14 CFR Affected: 14 CFR 25.791(a) and 121.317(a).

Description of Relief Sought/Disposition: To permit Delta to operate its McDonnell Douglas MD-90 aircraft with “No Smoking” signs that are always illuminated provided Delta operates those aircraft in a manner that continues to prohibit smoking on board the affected aircraft at all times.

Grant, November 7, 2002, Exemption No. 6034D

Docket No.: FAA-2002-13602.

Petitioner: Eagle Aviation, Inc.

Section of 14 CFR Affected: 14 CFR 135.143(c)(2).

Description of Relief Sought/Disposition: To permit Eagle Aviation to operate certain aircraft under part 135 without a TSO-C112 (Mode S) transponder installed in the aircraft.

Grant, November 13, 2002, Exemption No. 7919

Docket No.: FAA-2001-9031.

Petitioner: Houston Helicopters, Inc.

Section of 14 CFR Affected: 14 CFR 135.143(c)(2).

Description of Relief Sought/Disposition: To permit Houston Helicopters, Inc. to operate certain aircraft under part 135 without a TSO-C112 (Mode S) transponder installed on those aircraft.

Grant, November 13, 2002, Exemption No. 7501A

Docket No.: FAA-2000-8391.

Petitioner: Ed's Flying Service, Inc.

Section of 14 CFR Affected: 14 CFR 135.143(c)(2).

Description of Relief Sought/Disposition: To permit Ed's Flying Service, Inc. to operate certain aircraft under part 135 without a TSO-C112 (Mode S) transponder installed on those aircraft.

Grant, November 13, 2002, Exemption No. 7494A

Docket No.: FAA-2002-13599.

Petitioner: Dynamic Aviation Group, Inc.

Section of 14 CFR Affected: 14 CFR 135.143(c)(2).

Description of Relief Sought/Disposition: To permit Dynamic Aviation to operate certain aircraft under part 135 without a TSO-C112 (Mode S) transponder installed in the aircraft.

Grant, November 13, 2002, Exemption No. 7918

Docket No.: FAA-2001-9501.

Petitioner: United States Air Force.

Section of 14 CFR Affected: 14 CFR 91.209(a)(1) and (2).

Description of Relief Sought/Disposition: To permit the United States Air Force to conduct night-vision goggle flight training operations at and above 18,000 feet mean sea level in various aircraft without lighted position lights.

Grant, November 13, 2002, Exemption No. 7687A

Docket No.: FAA-2002-13423.

Petitioner: Shahbahram Hakimian.

Section of 14 CFR Affected: 14 CFR 121.383(c).

Description of Relief Sought/Disposition: To permit Shahbahram Hakimian to act as a pilot in operations conducted under part 121 after reaching his 60th birthday.

Denial, November 13, 2002, Exemption No. 7917

Docket No.: FAA-2002-13437.

Petitioner: JetShare US, L.L.C.

Section of 14 CFR Affected: 14 CFR 135.143(c)(2).

Description of Relief Sought/Disposition: To permit JetShare to operate certain aircraft under part 135 without a TSO-C112 (Mode S) transponder installed in the aircraft.

Grant, November 19, 2002, Exemption No. 7904A

Docket No.: FAA-2000-8147.

Petitioner: Flight Line Aviation, Inc.

Section of 14 CFR Affected: 14 CFR 135.143(c)(2).

Description of Relief Sought/Disposition: To permit FLA to operate certain aircraft under part 135 without a TSO-C112 (Mode S) transponder installed on those aircraft.

Grant, November 19, 2002, Exemption No. 6874B

Docket No.: FAA-2002-13369.

Petitioner: Aero Sports Connection.

Section of 14 CFR Affected: 14 CFR 91.319(a)(2).

Description of Relief Sought/Disposition: To permit ASC members who own an aircraft with certain experimental airworthiness certificates to be compensated for the use of the aircraft in aircraft-specific flight and ground transition training and flight reviews under 61.56 conducted by authorized flight instructors.

Grant, November 15, 2002, Exemption No. 7390A

Docket No.: FAA-2000-7945.

Petitioner: The Boeing Company.

Section of 14 CFR Affected: 14 CFR 61.57(a) and (b).

Description of Relief Sought/Disposition: To permit Boeing production and engineering flight test pilots to use any type of Boeing airplane or Level B, C, or D simulator that represents any type of Boeing airplane to meet the takeoff and landing recency of experience requirements without Boeing holding a part 142 certificate.

Grant, November 20, 2002, Exemption No. 6843B

Docket No.: FAA-2000-8009.

Petitioner: Alaska Airlines, Inc.

Section of 14 CFR Affected: 14 CFR 121.433(c)(1)(iii), 121.440(a), and 121.441(a)(1) and (b)(1), and appendix F to part 121.

Description of Relief Sought/Disposition: To permit Alaska to combine recurrent flight and ground training and proficiency checks for Alaska's flight crewmembers in a single, annual training and proficiency evaluation program.

Grant, November 20, 2002, Exemption No. 6043E

Docket No.: FAA-2002-13824.

Petitioner: Charter Direct, Inc.

Section of 14 CFR Affected: 14 CFR 135.143(c)(2).

Description of Relief Sought/Disposition: To permit Charter Direct, Inc. to operate certain aircraft under part 135 without a TSO-C112 (Mode S) transponder installed in the aircraft.

Grant, November 21, 2002, Exemption No. 7924

Docket No.: FAA-2000-8000.

Petitioner: Delta Air Lines, Inc.

Section of 14 CFR Affected: 14 CFR 121.434(c)(1)(ii).

Description of Relief Sought/Disposition: To permit Delta Air Lines, Inc. (Delta) to substitute a qualified and authorized check airman in place of an FAA inspector to observe a qualifying pilot in command (PIC) while that PIC is performing prescribed duties during at least one flight leg that includes a takeoff and a landing when completing initial or upgrade training as specified in § 121.424.

Grant, November 27, 2002, Exemption No. 7376C

Docket No.: FAA-2002-13601.

Petitioner: John W. Myer.

Section of 14 CFR Affected: 14 CFR 121.383(c).

Description of Relief Sought/Disposition: To permit Mr. Myer to act as a pilot in operations conducted under part 121 after reaching his 60th birthday.

Denial, November 25, 2002, Exemption No. 7928

Docket No.: FAA-2002-13647.

Petitioner: Vincent J. Catalano.

Section of 14 CFR Affected: 14 CFR 121.383(c).

Description of Relief Sought/Disposition: To permit Mr. Catalano to act as a pilot in operations conducted under part 121 after reaching his 60th birthday.

Denial, November 25, 2002, Exemption No. 7927

Docket No.: FAA-2000-8010.

Petitioner: Fostaire Helicopters.

Section of 14 CFR Affected: 14 CFR 135.143(c)(2).

Description of Relief Sought/Disposition: To permit Fostaire to operate certain aircraft under part 135 without a TSO-C112 (Mode S) transponder installed on those aircraft.

Grant, December 2, 2002, Exemption No. 7397A

Docket No.: FAA-2001-9100.

Petitioner: Tex-Air Helicopters, Inc.

Section of 14 CFR Affected: 14 CFR 135.143(c)(2).

Description of Relief Sought/Disposition: To permit Tex-Air to operate certain aircraft under part 135 without a TSO-C112 (Mode S) transponder installed on those aircraft.

Grant, December 2, 2002, Exemption No. 7502A

Docket No.: FAA-2002-13966.

Petitioner: St. Charles Flying Service, Inc.

Section of 14 CFR Affected: 14 CFR 135.143(c)(2).

Description of Relief Sought/Disposition: To permit St. Charles to operate certain aircraft under part 135 without a TSO-C112 (Mode S) transponder installed in the aircraft.

Grant, December 2, 2002, Exemption No. 7929

Docket No.: FAA-2000-8432.

Petitioner: Air Vegas, Inc.

Section of 14 CFR Affected: 14 CFR 135.143(c)(2).

Description of Relief Sought/Disposition: To permit Air Vegas to operate certain aircraft under part 135 without a TSO-C112 (Mode S) transponder installed on those aircraft.

Grant, December 3, 2002, Exemption No. 6588C

Docket No.: FAA-2002-12534.

Petitioner: University of Illinois at Urbana-Champaign Institute of Aviation (UIUC).

Section of 14 CFR Affected: 14 CFR 141.55(d) and (e) and 141.63(b).

Description of Relief Sought/Disposition: To permit UIUC to hold examining authority for its FAA-approved training courses that do not meet the minimum ground and flight training time requirements of part 141.

Partial Grant, November 18, 2002, Exemption No. 7921

Docket No.: FAA-2001-8987.

Petitioner: The Boeing Company.

Section of 14 CFR Affected: 14 CFR 91.515(a)(1).

Description of Relief Sought/Disposition: To permit Boeing to conduct noise measurement tests, Ground Proximity Warning System research and development, and aircraft certification tests at altitudes less than 1,000 feet above the surface or 1,000 feet from any mountain, hill, or other obstruction to flight.

Grant, December 3, 2002, Exemption No. 4783H

Docket No.: FAA-2000-8179.

Petitioner: Fairchild Aircraft, Inc.

Section of 14 CFR Affected: 14 CFR 91.531(a)(3).

Description of Relief Sought/Disposition: To permit Fairchild to conduct production and experimental test flights in SA227-CC and SA227-DC Metro 23 airplanes without a pilot designated as second in command (SIC).

Grant, December 3, 2002, Exemption No. 5367G

Docket No.: FAA-2000-8419.

Petitioner: United States Air Force.

Section of 14 CFR Affected: 14 CFR 91.209(a)(1) and (b).

Description of Relief Sought/Disposition: To permit USAF to conduct counternarcotics aircrew flight training operations in support of drug law enforcement and drug traffic interdiction, without lighted aircraft position or anticollision lights.

Grant, December 3, 2002, Exemption No. 5305E

Docket No.: FAA-2002-13713.

Petitioner: Edward Solomon.

Section of 14 CFR Affected: 14 CFR 91.109(a).

Description of Relief Sought/Disposition: To conduct certain flight instruction and simulated instrument flights to meet the recent experience requirements in Beechcraft Bonanza, Baron, and Travel Air airplanes equipped with a functioning throwover control wheel in place of functioning dual controls.

Grant, December 3, 2002, Exemption No. 7931

Docket No.: FAA-2002-13618.

Petitioner: Mercy Air Service, Inc.

Section of 14 CFR Affected: 14 CFR 135.265(d).

Description of Relief Sought/Disposition: To permit Mercy Air to relieve its flight crewmembers from all further duty for at least 24 consecutive hours during any 168 consecutive hours, rather than during 7 consecutive days.

Denial, December 3, 2002, Exemption No. 7932

Docket No.: FAA-2002-13712.

Petitioner: Kerrick R. Philleo.

Section of 14 CFR Affected: 14 CFR 91.109(a).

Description of Relief Sought/Disposition: To permit Mr. Philleo to conduct certain flight instruction and simulated instrument flights to meet the recent experience requirements in Beechcraft Bonanza and Beechcraft Debonair airplanes equipped with a functioning throwover control wheel in place of functioning dual controls.

Grant, December 3, 2002, Exemption No. 7930

Docket No.: FAA-2002-13592.

Petitioner: Philip T. Heth.

Section of 14 CFR Affected: 14 CFR 135.251, 135.255, and 135.353, and appendices I and J to part 121.

Description of Relief Sought/Disposition: To permit Mr. Heth to conduct a local sightseeing flight, for compensation or hire, without complying with certain anti-drug and alcohol misuse prevention requirements of part 135.

Grant, December 13, 2002, Exemption No. 7934

Docket No.: FAA-2001-8881.

Petitioner: Mr. Allen Banen.

Section of 14 CFR Affected: 14 CFR 91.109(a) and (b)(3).

Description of Relief Sought/Disposition: To permit Mr. Banen to conduct certain flight instruction and simulated instrument flight to meet recent instrument experience requirements in Beechcraft Baron and Bonanza airplanes equipped with a functioning throwover control wheel in place of functioning dual controls.

Grant, December 18, 2002, Exemption No. 7467A

Docket No.: FAA-2000-8434.

Petitioner: Air Transport Association.

Section of 14 CFR Affected: 14 CFR 121.652(a) and (c).

Description of Relief Sought/Disposition: To permit ATA member airlines and other similarly situated Part 121 operators to permit a pilot in command (PIC) conducting operations under Part 121 to perform an instrument approach procedure to the weather minima prescribed by this exemption during the first 100 hours of service as PIC, using an alternative approved means.

Grant, December 18, 2002, Exemption No. 5549F

Docket No.: FAA-2002-13734.

Petitioner: Midwest Express Airlines, Inc.

Section of 14 CFR Affected: 14 CFR 93.123.

Description of Relief Sought/Disposition: To permit Midwest the use of slot number 1497 at Ronald Reagan Washington National Airport (DCA) to augment its service from DCA to Kansas City.

Grant, December 23, 2002, Exemption No. 7370A

[FR Doc. 03-5924 Filed 3-11-03; 8:45 am]

BILLING CODE 4910-13-P